ENVIRONMENTAL PROTECTION AGENCY

[EPA-HQ-OEM-2015-0725; FRL-10013-31-OLEM]

Accidental Release Prevention Requirements: Risk Management Programs Under the Clean Air Act; Final Action on Petitions for Reconsideration

AGENCY: Environmental Protection Agency (EPA).

ACTION: Notice of final action denying petitions for reconsideration.

SUMMARY: The U.S. Environmental Protection Agency (EPA) received three petitions for reconsideration of the final revisions to the Accidental Release Prevention Requirements: Risk Management Programs under the Clean Air Act, published in the Federal Register on December 19, 2019. The agency is providing notice that it is denying all three petitions for reconsideration. The basis for EPA's action is set out fully in separate letters addressed to each petitioner, available in the rulemaking docket.

DATES: September 4, 2020.

FOR FURTHER INFORMATION CONTACT: James Belke, United States Environmental Protection Agency, Office of Land and Emergency Management, 1200 Pennsylvania Ave. NW (Mail Code 5104A), Washington, DC 20460; telephone number: (202) 564-8023; email address: belke.jim@epa.gov, or: William Noggle, United States Environmental Protection Agency, Office of Land and Emergency Management, 1200 Pennsylvania Ave. NW (Mail Code 5104A), Washington, DC 20460; telephone number: (202) 566-1306; email address: noggle.william@epa.gov.

SUPPLEMENTARY INFORMATION:

I. How can I get copies of this document and other related information?

A copy of this Federal Register notice, the petitions for reconsideration, and the separate letters describing the full basis for this action are available in the rulemaking docket (Docket ID No. EPA-HQ-OEM-2015-0725). Publicly available docket materials are available electronically through www.regulations.gov. In addition, following signature, an electronic copy of this final action and the letters will be available on the internet at www.epa.gov/rmp/final-risk-management-program-rmp-reconsideration-rule. Out of an abundance of caution for members of the public and our staff, the EPA Docket Center and Reading Room are closed to the public, with limited exceptions, to reduce the risk of transmitting COVID-19. Our Docket Center staff will continue to provide remote customer service via email, phone, and webform. We encourage the public to obtain docket information via https://www.regulations.gov/. For further information on EPA Docket Center services and the current status, please visit us online at https://www.epa.gov/dockets.

II. Judicial Review

Section 307(b)(1) of the CAA indicates which Federal Courts of Appeal have venue for petitions of review of final actions by the EPA. This section provides, in part, that “a petition for review of action of the Administrator in promulgating . . . any standard of performance or requirement under section [111] of [the CAA],” or any other “nationally applicable” final action, “may be filed only in the United States Court of Appeals for the District of Columbia.”

The EPA has determined that its actions denying the petitions for reconsideration are nationally applicable for purposes of CAA section 307(b)(1) because these actions directly relate to the Risk Management Program regulations promulgated under CAA section 112(r), which are nationally applicable requirements. Thus, any petitions for review of the final letters denying the petitions for reconsideration must be filed in the Court of Appeals for the District of Columbia Circuit on or before November 3, 2020.

Andrew Wheeler,
Administrator.

[FR Doc. 2020-19576 Filed 9-3-20; 8:45 am]

BILLING CODE 6560-50-P